ENVIRONMENTAL PROTECTION AGENCY

[ER-FRL-9016-2]

Environmental Impact Statements; Notice of Availability

Responsible Agency: Office of Federal Activities, General Information (202) 564-7146 or http://www.epa.gov/compliance/nepa/.

Weekly receipt of Environmental Impact Statements

Filed 07/21/2014 Through 07/25/2014

Pursuant to 40 CFR 1506.9.

Notice

Section 309(a) of the Clean Air Act requires that EPA make public its comments on EISs issued by other Federal agencies. EPA's comment letters on EISs are available at: http://www.epa.gov/compliance/nepa/eisdata.html.

EIS No. 20140202, Final EIS, NPS, MD, Antietam National Battlefield, Monocacy National Battlefield, Manassas National Battlefield Park, Final White-tailed Deer Management Plan, Review Period Ends: 09/03/2014, Contact: Tracy Atkins 303-969-2325.

EIS No. 20140203, Final EIS, USFS, CO, Gore Creek Restoration, Review Period Ends: 09/02/2014, Contact: Doug Myhre 970-638-4178.

EIS No. 20140204, Final EIS, USACE, NC, Village of Bald Head Island Shoreline Stabilization Project, Review Period Ends: 09/02/2014, Contact: Ronnie Smith 910-251-4829.

EIS No. 20140205, Final EIS, USFWS, OH, Ballville Dam Project, Review Period Ends: 09/02/2014, Contact: Brian Elkington 612-713-5168.

EIS No. 20140206, Draft EIS, FHWA, NY, Portageville Bridge Project, Comment Period Ends: 09/15/2014, Contact: Jonathan McDade 518-431-4127.

EIS No. 20140207, Final EIS, USACE, SC, Haile Gold Mine Project, Review Period Ends: 09/02/2014, Contact: Dr. Richard L. Darden 843-329-8043.

EIS No. 20140208, Final EIS, NOAA, MI, Thunder Bay National Marine Sanctuary Boundary Expansion, Review Period Ends: 09/02/2014, Contact: Helene Scalliet 301-713-7281.

EIS No. 20140209, Draft EIS, USACE, CA, San Elijo Lagoon Restoration Project, Comment Period Ends: 09/29/2014, Contact: Meris Bantilan-Smith 760-602-4836.

Dated: July 29, 2014.
Cliff Rader,
Director, NEPA Compliance Division, Office of Federal Activities.

[FR Doc. 2014-18272 Filed 7-31-14; 8:45 am]

BILLING CODE 6560-50-P